DEPARTMENT OF AGRICULTURE

Farm Service Agency

Request for an Extension of a Currently Approved Information Collection; County Committee Elections

AGENCY: Farm Service Agency, USDA.

ACTION: Notice; request for comments.

SUMMARY: In accordance with the Paperwork Reduction Act of 1995, the Farm Service Agency (FSA) is seeking comments from all interested individuals and entities on an extension of a currently approved information collection associated with the FSA County Committee Elections. The collection of information from FSA Farmers and Ranchers is used to receive nominations from eligible voters for the County Committee.

DATES: Comments on this notice must be received on or before May 12, 2008 to be assured consideration.

Additional Information: We invite you to submit comments on this Notice. In your comment, include volume, date and page number of this issue of the Federal Register. You may submit comments by any of the following methods:

Mail: Kenneth Nagel, Field Operations Manager for the Deputy Administrator for Field Operations, Farm Service Agency, USDA, STOP 0542, 1400 Independence Avenue, Washington, DC 20250.

E-mail: Send comments to: Kenneth.nagel@wdc.usda.gov.

Fax: (202) 720-6964.

Comments also should be sent to the Desk Officer for Agriculture, Office of Information and Regulatory Affairs, Office of Management and Budget, Washington, DC 20503.

FOR FURTHER INFORMATION CONTACT: Kenneth Nagel, Field Operations Manager, telephone (202) 720-7890.

SUPPLEMENTARY INFORMATION: Title: County Committee Election.

OMB Control Number: 0560-0229.

Expiration Date of Approval: September 30, 2008.

Type of Request: Extension.

Abstract: This information collection is necessary to effectively allow farmers and ranchers to nominate potential candidates for the county committee election in accordance with the requirements as authorized by the Soil Conservation and Domestic Allotment Act, as amended. Specifically, the Agency uses the information annually or if needed through-out the year for special elections to create ballots for county committee elections.

Estimate of Respondent Burden: Public reporting burden for this collection of information is estimated to average 10 minutes per response. The average travel time, which is included in the total burden, is estimated to be 1 hour per respondent.

Respondents: Any individual with farming interest in the Local Administrative Area (LAA) (eligible voters).

Estimated Number of Respondents: 10,000.

Estimated Number of Responses per Respondent: 1.

Estimated Total Annual Burden on Respondents: 6700.

Comments are invited on:

(1) Whether the collection of information is necessary for the proper performance of the functions of the agency, including whether information will have practical utility;

(2) The accuracy of the agency's estimate of burden including the validity of the methodology and assumptions used;

(3) Ways to enhance the quality, utility and clarity of the information collected; or

(4) Ways to minimize the burden of the information collection on those who are to respond through the use of appropriate automated, electronic, mechanical, or other technological collection techniques or other forms of information technology.

All responses received in response to this notice, including names and addresses when provided, will be a matter of public records. Comments will be summarized and included in the request for Office of Management and Budget approval of the information collection.

Signed in Washington, DC on March 6, 2008.
Teresa C. Lasseter,
Administrator, Farm Service Agency.

[FR Doc. E8-4989 Filed 3-12-08; 8:45 am]

BILLING CODE 3410-05-P